DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on June 21st, 2022, from 10:00 a.m. EDT to 4:30 p.m. EDT, and June 22nd, 2022, from 10:00 a.m. EDT to 1:00 p.m. EDT.

The board will meet in open-session June 21st, 2022, from 10:00 a.m. EDT to 2:15 p.m. EDT to discuss the Mandatory Guidelines for Federal Workplace Drug Testing Programs, updates on the Drug Free Workplace Program as well as updates from the Department of Transportation, the Nuclear Regulatory Commission, a presentation by Dr. Barry Sample on Workforce Drug Testing for Marijuana in 2021, and a presentation by Dr. Svante Vikingsson on Hydroxy Cocaine and Cocaine Ratios in Hair.

The board will meet in closed-session on June 21st, 2022, from 2:45 p.m. EDT to 4:30 p.m. EDT and June 22nd, 2022, from 10:00 a.m. EDT to 1:00 p.m. EDT, to discuss confidential issues surrounding the proposed Mandatory Guidelines for Federal Workplace Drug Testing Programs (hair), preliminary and unpublished studies on hydroxy cocaine and cocaine ratios in hair, studies on quantitative agreement in hair labs, and oral fluid topical solution data from the Johns Hopkins University Behavioral Pharmacology Research Unit (BPRU). Therefore, the June 21st, 2022, from 2:45 to 4:30 and June 22nd, 2022, from 10:00 a.m. EDT to 1:00 p.m. EDT meetings are closed to the public, as determined by the Assistant Secretary for Mental Health and Substance Use, SAMHSA, in accordance with 5 U.S.C. 552b(c)(4) and (9)(B), and 5 U.S.C. App. 2, Section 10(d).

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Lisa Davis.

Committee Name: Substance Abuse and Mental Health Services Administration, Center for Substance Abuse Prevention, Drug Testing Advisory Board

Dates/Time/Type: June 21st, 2022, from 10:00 a.m. EDT to 2:15 p.m. EDT: OPEN,

June 21st, 2022, from 2:45 p.m. EDT to 4:30 p.m. EDT: CLOSED,

June 22nd, 2022, from 10:00 a.m. EDT to 1:00 p.m. EDT: CLOSED

Place: Substance Abuse and Mental Health Services Administration, 5600 Fishers Lane, Rockville, MD 20857

Contact: Lisa S. Davis, M.S, Social Science Analyst, Center for Substance Abuse Prevention, 5600 Fishers Lane, Rockville, Maryland 20857, Telephone: (240) 276-1440, Email: Lisa.Davis@samhsa.hhs.gov.

Anastasia Marie Donovan,
Public Health Advisor, Division of Workplace Programs.

[FR Doc. 2022-08479 Filed 4-20-22; 8:45 am]

BILLING CODE 4162-20-P